DEPARTMENT OF THE INTERIOR

Bureau of Land Management

[CO-800-1430-EU, COC 67637]

Notice of Realty Action: Proposed Noncompetitive Sale of Public Land, Archuleta County, CO

AGENCY: Bureau of Land Management, Interior.

ACTION: Notice of Realty Action.

SUMMARY: The Bureau of Land Management (BLM) hereby provides notice that it will offer a 40-acre parcel of public land located in Archuleta County, Colorado, for sale at not less than the appraised fair market value to Thomas H. and Margie E. Smith, the sale proponents. The BLM Pagosa Field Manager has determined that because the parcel is completely surrounded by private lands owned by the sale proponents and has no legal access via any public road, it will be offered to the sale proponents under noncompetitive (direct) sale procedures.

DATES: Comments regarding the proposed sale must be in writing and received by BLM not later than March 23, 2006.

ADDRESSES: Address all written comments regarding the proposed sale to Field Manager, BLM, Pagosa Field Office, Box 310, Pagosa Springs, Colorado 81147. Comments received in electronic form such as e-mail or facsimile will not be considered.

FOR FURTHER INFORMATION CONTACT: Charlie Higby, Realty Specialist, at (970) 385-1374.

SUPPLEMENTARY INFORMATION: In accordance with the provisions of 43 CFR parts 2710 and 2720, the following described land in Archuleta County, Colorado, is proposed to be sold pursuant to authority provided in sections 203 and 209 of the Federal Land Policy and Management Act of 1976 (FLPMA), as amended (43 U.S.C. 1713, 1719). The parcel to be sold is identified as suitable for disposal in the San Juan/San Miguel Resource Area Management Plan (1985). Proceeds from the sale of the public land will be deposited in the Federal Land Disposal Account under section 206 of the Federal Land Transaction Facilitation Act (43 U.S.C. 2305).

Publication of this notice in the Federal Register shall segregate the land described below from appropriation under the public land laws, including the mining laws. The segregative effect of this notice shall terminate upon issuance of patent or upon expiration of 270 days from the date of publication in the Federal Register, whichever occurs first.

Noncompetitive Sale

New Mexico Principal Meridian, Colorado

T. 36 N., R. 2 W.,

sec. 28, SW¼SW¼.

The area described contains 40.00 acres.

The appraised fair market value of the parcel is $170,000. This parcel cannot be legally accessed by any public road. It is completely surrounded by the private property of the sale proponent (Thomas and Margie Smith) and is isolated from other public lands. There are no encumbrances of record.

The following reservation, right, and condition will be included in the patent that may be issued for the above parcel of federal land: A reservation to the United States for a right-of-way for ditches and canals constructed by the authority of the United States. Act of August 30, 1890 (43 U.S.C. 945).

No warranty of any kind, express or implied, is given by the United States as to the title, physical condition, or potential uses of the parcel proposed for sale.

The Federal mineral interest underlying the parcel has minimal mineral value and will be conveyed with the parcel. Acceptance in writing of the offer to purchase the above described parcel will constitute an application for conveyance of the mineral interest for the parcel. In addition to the full purchase price, the purchaser must pay a separate nonrefundable filing fee of $50 for the mineral interest to be conveyed simultaneously with the sale of the land.

Failure to timely submit full payment for the parcel within 180 days of the sale will constitute a withdrawal of the request for noncompetitive sale of the public land.

Public Comments

Detailed information concerning the proposed land sale, including reservations, sale procedures, appraisals, planning and environmental documents, Comprehensive Environmental Response, Compensation and Liability Act (CERCLA) 120(h) findings, and mineral report, is available for review at the BLM, Pagosa Field Office, 180 Second Street, Pagosa Springs, Colorado. Normal business hours are 7:45 a.m. to 4:30 p.m. MST, Monday through Friday, except Federal holidays.

The general public and interested parties may submit written comments regarding the proposed sale to the Field Manager, BLM, Pagosa Field Office, not later than March 23, 2006. Comments received during this process, including respondent's name, address, and other contact information, will be available for public review. Individual respondents may request confidentiality. If you wish to request that BLM consider withholding your name, address, and other contact information from public review or disclosure under the Freedom of Information Act, you must state this prominently at the beginning of your comment. The BLM will honor requests for confidentiality on a case-by-case basis to the extent allowed by law. The BLM will make available for public review, in their entirety, all comments submitted by businesses or organizations, including comments by individuals in their capacity as an official or representative of a business or organization.

Any adverse comments will be reviewed by the BLM State Director, Colorado, who may sustain, vacate, or modify this realty action in whole or in part. In the absence of any adverse comments, this realty action will become the final determination of the Department of the Interior.

Authority: 43 CFR 2711.1-2(a).

Steven A. Hartvigsen,
Acting Field Manager, Pagosa Field Office.

[FR Doc. E6-1572 Filed 2-3-06; 8:45 am]

BILLING CODE 4310-JB-P